NATIONAL AERONAUTICS AND SPACE ADMINISTRATION

14 CFR Part 1212

[Document Number NASA-22-042; Docket Number-NASA-2022-0004]

RIN 2700-AE66

Social Security Number Fraud Prevention Act of 2017 Implementation

AGENCY: National Aeronautics and Space Administration.

ACTION: Proposed rule.

SUMMARY: This proposed rule would revise the NASA's regulations under the Privacy Act. The revisions would clarify and update the language of procedural requirements pertaining to the inclusion of Social Security Numbers (SSN) on documents that the Agency sends by mail. These revisions are necessary to implement the Social Security Number Fraud Prevention Act of 2017, which restricts the inclusion of SSNs on documents sent by mail by the Federal Government.

DATES: Submit comments on or before September 15, 2022.

ADDRESSES: Comments must be identified with RIN 2700-AE66 and may be sent to NASA via the Federal E-Rulemaking Portal: http://www.regulations.gov. Follow the online instructions for submitting comments. Please note that NASA will post all comments on the internet with changes, including any personal information provided.

FOR FURTHER INFORMATION CONTACT: Stayce Hoult, Office of the Chief Information Officer, 256-544-7705.

SUPPLEMENTARY INFORMATION: The Social Security Number Fraud Prevention Act of 2017 (the Act) (Pub. L. 115-59; 42 U.S.C. 405 note), which was signed on September 15, 2017, restricts Federal agencies from including individuals' SSNs on documents sent by mail, unless the head of the agency determines that the inclusion of the SSN on the document is necessary (section 2(a) of the Act). The Act requires agency heads to issue regulations specifying the circumstances under which inclusion of an SSN on a document sent by mail is necessary. These regulations, which must be issued not later than five years after the date of enactment, shall include instructions for the partial redaction of SSNs where feasible, and shall require that SSNs not be visible on the outside of any package sent by mail (section 2(b) of the Act). This proposed rule would revise NASA's regulations under the Privacy Act (14 CFR part 1212.6, consistent with the requirements in the Act. The proposed regulation would also clarify the procedural requirements pertaining to the inclusion of SSNs on documents that NASA sends by mail.

Statutory Authority: The National Aeronautics and Space Act (the Space Act), 51 U.S.C. 20101 et seq., authorizes the NASA Administrator to make, promulgate, issue, rescind, and amend rules and regulations governing the manner of its operations and the exercise of the powers vested in it by law. The Social Security Number Fraud Prevention Act of 2017, 42 U.S.C. 405 note, authorizes and requires agencies to promulgate rules related to the mailing of documents that contain an SSN.

Regulatory Analysis

Executive Order 12866, Regulatory Planning and Review, and Executive Order 13563, Improvement Regulation and Regulation Review

Executive Orders 12866 and 13563 direct agencies to assess all costs and benefits of available regulatory alternatives and, if regulation is necessary, to select regulatory approaches that maximize net benefits (including potential economic, environmental, public health and safety effects, distributive impacts, and equity). Executive Order 13563 emphasizes the importance of quantifying both costs and benefits of reducing costs, harmonizing rules, and promoting flexibility. This proposed rule is not a significant regulatory action under section 3(f) of Executive Order 12866 and was not reviewed by the Office of Management and Budget.

Review Under the Regulatory Flexibility Act

The Regulatory Flexibility Act (5 U.S.C. 601 et seq.) requires an agency to prepare an initial regulatory flexibility analysis to be published at the time the proposed rule is published. This requirement does not apply if the agency “certifies that the rule will not, if promulgated, have a significant economic impact on a substantial number of small entities” (5 U.S.C. 605(b)). This proposed rule does not have any economic impact on small entities.

Review Under the Paperwork Reduction Act

This proposed rule does not contain any information collection requirements subject to the Paperwork Reduction Act of 1995 (44 U.S.C. 3501 et seq.).

Review Under Executive Order of 13132

Executive Order 13132, “Federalism,” 64 FR 43255 (August 4, 1999) requires regulations be reviewed for Federalism effects on the institutional interest of states and local governments, and, if the effects are sufficiently substantial, preparation of the Federal assessment is required to assist senior policy makers. The amendments will not have any direct effects on state and local governments within the meaning of the Executive Order. Therefore, no Federalism assessment is required.

List of Subjects in 14 CFR Part 1212

Privacy, Privacy Act.

For reasons discussed in the preamble, NASA amends 14 CFR part 1212 as follows:

PART 1212—PRIVACY ACT—NASA REGULATIONS

1. The authority citation for part 1212 is revised to read as follows:

Authority: The National Aeronautics and Space Act, as amended, 51 U.S.C. 20101 et seq.; the Privacy Act of 1974, as amended, 88 Stat. 1896, 5 U.S.C. 552a; The Social Security Number Fraud Prevention Act, 42 U.S.C. 405 note.

2. In § 1212.604, add paragraph (c) to read as follows:

* * * * *

Subpart 1212.6—Instructions for NASA Employees

§ 1212.604 Social security numbers.

* * * * *

(c) Social Security Numbers on items sent by mail.

(1) Social Security account numbers shall not be visible on the outside of any package sent by mail.

(2) A document sent by mail may only include the Social Security account number of an individual if it is determined by the Administrator that the inclusion of a Social Security account number is necessary.

(3) The inclusion of a Social Security account number of an individual on a document sent by mail is necessary when—

(i) Required by law; or

(ii) Necessary to identify a specific individual and no adequate substitute is available.

(4) Social Security account numbers must be partially redacted in documents sent by mail whenever feasible.

* * * * *

Nanette Smith,
Team Lead, NASA Directives and Regulations.

[FR Doc. 2022-16384 Filed 7-29-22; 8:45 am]

BILLING CODE P